DEPARTMENT OF ENERGY

Federal Energy Regulatory Commission

[Project No. 13882-000]

City of Salem, OR; Notice of Competing Preliminary Permit Application Accepted for Filing and Soliciting Comments and Interventions

January 21, 2011.

On November 19, 2010, the City of Salem, Oregon filed an application for a preliminary permit, pursuant to section 4(f) of the Federal Power Act, proposing to study the feasibility of a hydropower development in the Geren Island Diversion on the North Santiam River in Marion County, Oregon. The sole purpose of a preliminary permit, if issued, is to grant the permit holder priority to file a license application during the permit term. A preliminary permit does not authorize the permit holder to perform any land disturbing activities or otherwise enter upon lands or waters owned by others without the owners' express permission.

The proposed project would consist of three developments: Franzen Reservoir Plant; Turner Control Plant; and Fairmount Reservoir Plant, and would utilize flows from two existing pipelines for the City of Salem's water system drawing water from the existing Franzen and Fairmount reservoirs.

The Franzen Reservoir Plant would consist of: (1) A new penstock intake at the powerhouse site; (2) a new powerhouse with a single turbine/generator unit at an installed capacity of 0.5 megawatt (MW); and (3) a new standard flow meter to direct flow from the penstock to the turbine.

The Turner Control Plant would consist of: (1) A new penstock intake at the powerhouse site; (2) a new powerhouse with a single turbine/generator unit at an installed capacity of 0.5 MW; and (3) a new standard flow meter to direct flow from the penstock to the turbine.

The Fairmount Reservoir Plant would consist of: (1) A new 36-inch-diameter bypass pipeline to convey water from the Franzen reservoir to the Fairmount reservoir; (2) a new powerhouse with a single turbine/generator unit at an installed capacity of 0.1 MW; and (3) a new standard flow meter to direct flow from the penstock to the turbine.

The three developments would have a combined capacity of 1.1 MW. The proposed project would have an average annual generation of 8,000,000 kilowatt-hours.

Applicant Contact: Linda Norris, City of Salem, Oregon, 555 Liberty Street SE., Room 220, Salem, OR 97301; phone: (503) 588-6255; e-mail: manager@cityofsalem.net.

FERC Contact: Kelly Wolcott (202) 502-6480.

Competing Application: This application competes with Project No. 13721-000 filed May 5, 2010.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13882) in the docket number field to access the document. For assistance, contact FERC Online Support.

Kimberly D. Bose,
Secretary.

[FR Doc. 2011-2142 Filed 1-31-11; 8:45 am]

BILLING CODE 6717-01-P